DEPARTMENT OF DEFENSE

GENERAL SERVICES ADMINISTRATION

NATIONAL AERONAUTICS AND SPACE ADMINISTRATION

48 CFR Parts 15 and 52

[FAC 2005-27; Item XIV;Docket FAR-2008-0007; Sequence 1]

Federal Acquisition Regulation; Technical Amendment

AGENCIES: Department of Defense (DoD), General Services Administration (GSA), and National Aeronautics and Space Administration (NASA).

ACTION: Final rule.

SUMMARY: This document makes amendments to the Federal Acquisition Regulation in order to make editorial changes.

DATES: Effective Date: September 17, 2008.

FOR FURTHER INFORMATION CONTACT: The FAR Secretariat, Room 4041, GS Building, Washington, DC, 20405, (202) 501-4755, for information pertaining to status or publication schedules. Please cite FAC 2005-27, Technical Amendment.

List of Subjects in 48 CFR Parts 15 and 52

Government procurement.

Dated: September 9, 2008
Al Matera,
Director, Office of Acquisition Policy.

Therefore, DoD, GSA, and NASA amend 48 CFR parts 15 and 52 as set forth below:

1. The authority citation for 48 CFR parts 15 and 52 continues to read as follows:

Authority: 40 U.S.C. 121(c); 10 U.S.C. chapter 137; and 42 U.S.C. 2473(c).

PART 15—CONTRACTING BY NEGOTIATION

15.404-1 [Amended]

2. Amend section 15.404-1 by removing from paragraph (a)(7) “http://www.acq.osd.mil/dpap/contractpricing/index.htm” and adding “http://www.acq.osd.mil/dpap/cpf/contract_pricing _reference_guides.html ”in its place.

PART 52—SOLICITATION PROVISIONS AND CONTRACT CLAUSES

52.212-5 [Amended]

3. Amend section 52.212-5 by removing from paragraph (b)(26) the word “FAR”.

[FR Doc. E8-21368 Filed 9-16-08; 8:45 am]

BILLING CODE 6820-EP-S